DEPARTMENT OF TRANSPORTATION

Coast Guard

[USCG-2000-8538]

Chemical Transportation Advisory Committee

AGENCY: Coast Guard, DOT.

ACTION: Notice of meeting.

SUMMARY: The Subcommittee of the Chemical Transportation Advisory Committee (CTAC) on Hazardous Substances Response Standards will meet to discuss the progress of its three (3) working groups on Training Issues, Response Organization, and Response Resource Identification and Verification. This meeting will be open to the public.

DATES: The Subcommittee will meet on Tuesday, January 16, 2001, from 8:30 a.m. to 4 p.m. and on Wednesday, January 17, 2001, from 8:30 a.m. to 12 p.m. The meeting may close early if all business is finished. Written material and requests to make oral presentations should reach the Coast Guard on or before January 5, 2001. Requests to have a copy of your material distributed to each member of the subcommittee should reach the Coast Guard on or before January 3, 2001.

ADDRESSES: The Subcommittee will meet in Conference room 1021/1022, Marathon Oil Company Headquarters Offices, 5555 San Felipe St., Houston, Texas. Send written material and requests to make oral presentations to Lieutenant Susan Klein, Coast Guard Technical Representative for the Subcommittee, Commandant (G-MOR-2), U.S. Coast Guard Headquarters, 2100 Second Street SW., Washington, DC 20593-0001.

FOR FURTHER INFORMATION CONTACT: Lieutenant Gregory F. Herold, Deputy Assistant to the Executive Director of CTAC, telephone 202-267-1217, fax 202-267-4570.

SUPPLEMENTARY INFORMATION: Notice of this meeting is given under the Federal Advisory Committee Act, 5 U.S.C. App. 2.

Agenda of Meeting

The agenda of the Subcommittee of the Chemical Transportation Advisory Committee (CTAC) on Hazardous Substances Response Standards includes the following:

(1) Introduction of Subcommittee members.

(2) Brief overview of Subcommittee tasking and desired outcome.

(3) Review and discussion on the progress and activities of the three (3) working groups; Training Issues, Response Organization, and Response Resources Identification and Verification.

(4) Development of future Subcommittee activities.

Procedural

The meeting is open to the public. Please note that the meeting may close early if all business is finished. All attendees at the meeting are encouraged to fully review the Subcommittee's task statement prior to the meeting. Copies of the Subcommittee's task statement can be obtained from Lieutenant Susan Klein, telephone 202-267-0417, or Lieutenant Gregaroy F. Herold, telephone 202-267-1217, fax 202-267-4570. It is also available from the CTAC Internet Website at: www.uscg.mil/hq/g-m/advisory/ctac. At the discretion of the Subcommittee Chair, members of the public may make oral presentations during the meeting. If you would like to make an oral presentation at the meeting, please notify the Coast Guard Technical Representative to the Subcommittee and submit written material on or before January 5, 2001. If you would like a copy of your material distributed to each member of the Subcommittee in advance of a meeting, please submit 25 copies to the Coast Guard Technical Representative to the Subcommittee no later than January 3, 2001.

Information on Services for Individuals With Disabilities

For information on facilities or services for individuals with disabilities, or to request special assistance at the meeting, contact the Deputy Assistant to the Executive Director of CTAC as soon as possible.

Dated: December 14, 2000.
Howard L. Hime,
Director of Standards, Acting Marine Safety and Environmental Protection.

[FR Doc. 00-32579 Filed 12-20-00; 8:45 am]

BILLING CODE 4910-15-M